DEPARTMENT OF COMMERCE

National Oceanic and Atmospheric Administration

50 CFR Part 622

[Docket No. 100217095-2081-04]

RTID 0648-XD019

Reef Fish Fishery of the Gulf of Mexico; 2023 Recreational Accountability Measure and Closure for Gulf of Mexico Red Grouper

AGENCY: National Marine Fisheries Service (NMFS), National Oceanic and Atmospheric Administration (NOAA), Commerce.

ACTION: Temporary rule; closure.

SUMMARY: NMFS implements an accountability measure (AM) for the red grouper recreational sector in the exclusive economic zone (EEZ) of the Gulf of Mexico (Gulf) for the 2023 fishing year through this temporary rule. NMFS has projected that the 2023 recreational annual catch target (ACT) for Gulf red grouper will have been reached by July 21, 2023. Therefore, NMFS closes the recreational sector for Gulf red grouper on July 21, 2023, and it will remain closed through the end of the fishing year on December 31, 2023. This closure is necessary to protect the Gulf red grouper resource.

DATES: This temporary rule is effective from 12:01 a.m., local time, on July 21, 2023, until 12:01 a.m., local time, on January 1, 2024.

FOR FURTHER INFORMATION CONTACT: Dan Luers, NMFS Southeast Regional Office, telephone: 727-551-5719, email: daniel.luers@noaa.gov.

SUPPLEMENTARY INFORMATION: NMFS manages the Gulf reef fish fishery, which includes red grouper, under the Fishery Management Plan for the Reef Fish Resources of the Gulf of Mexico (FMP). The FMP was prepared by the Gulf of Mexico Fishery Management Council and is implemented by NMFS under the authority of the Magnuson-Stevens Fishery Conservation and Management Act (Magnuson-Stevens Act) through regulations at 50 CFR part 622. All red grouper weights discussed in this temporary rule are in gutted weight.

Following a recent red grouper stock assessment, NMFS implemented Amendment 53 to the FMP (87 FR 25573, May 2, 2022). Among other measures, that amendment changed the units to estimate recreational red grouper catch from the Marine Recreational Information Program (MRIP) Coastal Household Telephone Survey to the MRIP Fishing Effort Survey (FES). It also revised sector catch limits, resulting in a recreational annual catch limit (ACL) of 1.73 million lb (0.78 million kg) and a recreational annual catch target (ACT) of 1.57 million lb (0.71 million kg)(50 CFR 622.41(e)(2)(iv)) (in MRIP FES units). Subsequent to the final rule for Amendment 53, NMFS implemented a final rule for a framework action to the FMP (87 FR 40742, July 8, 2022), which further revised the red grouper recreational ACL to 2.02 million lb (0.92 million kg) and the ACT to 1.84 million lb (0.83 million kg).

The Gulf red grouper recreational ACL (50 CFR 622.41(e)(2)(iv)) was exceeded in 2022 by approximately 0.70 million lb (0.32 million kg). As specified in 50 CFR 622.41(e)(2)(ii), in the year following a recreational ACL overage, NMFS is required to reduce the length of the following year's recreational fishing season by the amount necessary to ensure that the recreational ACT is not exceeded in that following year.

NMFS projects that the 2023 recreational ACT for Gulf red grouper of 1.84 million lb (0.83 million kg) will be reached as of July 21, 2023. This closure date is based on projected harvest rates using the average of recreational landings from 2021 and 2022. NMFS chose to use a 2-year average of harvest rates because it is most representative of current conditions. NMFS also chose to be conservative in setting the 2023 recreational season by using the 2-year average, which results in a shorter season than projected by using a 3-year average or using only 2022 landings. NMFS determined that it was appropriate to act conservatively because recreational harvest exceeded the red grouper recreational ACL by 72 percent in 2021 and by 35 percent in 2022. Accordingly, this temporary rule closes the recreational sector for Gulf red grouper effective at 12:01 a.m., local time, on July 21, 2023, through the end of the fishing year on December 31, 2023.

During the recreational closure, the bag and possession limits for red grouper in or from the Gulf EEZ are zero. The prohibition on possession of Gulf red grouper also applies in Gulf state waters for any vessel issued a valid Federal charter vessel/headboat permit for Gulf reef fish.

Classification

NMFS issues this action pursuant to section 305(d) of the Magnuson-Stevens Act. This action is required by 50 CFR 622.41(e)(2)(i) and (ii), which was issued pursuant to section 304(b) of the Magnuson-Stevens Act, and is exempt from review under Executive Order 12866.

Pursuant to 5 U.S.C. 553(b)(B), there is good cause to waive prior notice and an opportunity for public comment on this action, as notice and comment is unnecessary and contrary to the public interest. Such procedures are unnecessary because the regulations associated with the closure of the red grouper recreational sector at 50 CFR 622.41(e)(2)(i) and (ii) have already been subject to notice and public comment, and all that remains is to notify the public of the closure. Prior notice and opportunity for public comment are contrary to the public interest because there is a need to immediately implement this action to protect the red grouper stock. Prior notice and opportunity for public comment would require time and could result in a harvest well in excess of the established ACT. In addition, many charter vessel/headboat operations book trips for clients in advance and require as much notice as NMFS is able to provide to adjust their business plans to account for the recreational fishing season.

Authority: 16 U.S.C. 1801 et seq.

Dated: May 18, 2023.
Jennifer M. Wallace,
Acting Director, Office of Sustainable Fisheries, National Marine Fisheries Service.

[FR Doc. 2023-10973 Filed 5-18-23; 4:15 pm]

BILLING CODE 3510-22-P